Title 3—

The President

Proclamation 8472 of January 8, 2010

National Influenza Vaccination Week, 2010

By the President of the United States of America

A Proclamation

Since the first United States cases were identified in April of last year, our Nation has witnessed the worldwide spread of the H1N1 influenza virus. To date, tens of millions of Americans have contracted this virus. While the vast majority of those affected have recovered without incident, an unusually high proportion of children and younger adults have developed serious complications, resulting in hospitalization or even death. We know that influenza vaccination is the best way to protect ourselves against the flu, and my Administration moved swiftly to respond to this threat by assisting in the development of a vaccine, which is now widely available and has shown to be both safe and effective.

Every American has a role to play in fighting the H1N1 flu. Expectant mothers, children, young adults, and all those under the age of 65 with chronic health conditions are at high risk for H1N1 flu-related complications and should get the vaccine as soon as possible. Those not at high risk can protect themselves and prevent the virus from spreading to more vulnerable members of their families and communities by getting vaccinated as well.

This week presents a window of opportunity for us to prevent a possible third wave of H1N1 flu in the United States. I strongly encourage those who have not yet received the H1N1 flu vaccine to do so. Visit flu.gov to find vaccination sites in communities across our country and to stay informed. Together, we can all fight the H1N1 flu and help protect our families, friends, and neighbors.

NOW, THEREFORE, I, BARACK OBAMA, President of the United States of America, by virtue of the authority vested in me by the Constitution and the laws of the United States, do hereby proclaim the week of January 10-16, 2010, as National Influenza Vaccination Week. I encourage all Americans to observe this week by getting the H1N1 flu vaccine if they have not yet done so, and by asking their families, friends, and co-workers to do the same.

IN WITNESS WHEREOF, I have hereunto set my hand this eighth day of January, in the year of our Lord two thousand ten, and of the Independence of the United States of America the two hundred and thirty-fourth.

[FR Doc. 2010-650

Filed 1-12-10; 11:15 am]

Billing code 3195-W0-P